ENVIRONMENTAL PROTECTION AGENCY

[FRL-7449-3]

Emergency Planning and Notification; Hazardous Chemical Reporting: Community Right-to-Know; Request for Comment on Change of Contractor Handling Trade Secret Claims

AGENCY: Environmental Protection Agency (EPA).

ACTION: Notice.

SUMMARY: This notice announces a change in location and contractor designated to manage the trade secret claims submitted for reports under Emergency Planning and Notification and Hazardous Chemical Reporting for Community Right-to-Know pursuant to 40 CFR part 350. In compliance with 40 CFR part 350 (“Trade Secrecy Claims for Emergency Planning and Community Right-to-Know Information”) facilities providing emergency planning notification and relevant information to the State Emergency Response Commission and Local Emergency Planning Committee under section 303(d)(2) and (d)(3) of EPCRA; facilities submitting Material Safety Data Sheets or lists of those chemicals submitted in place of the MSDSs under section 311 of EPCRA; facilities submitting Emergency and Hazardous Chemical Inventory Forms under section 312 of EPCRA may be eligible to claim Trade Secret for the specific chemical identity of a chemical that is reported in these reports. Pursuant to 40 CFR 350.23 (“Disclosure to authorized representatives”), information entitled to trade secret or confidential treatment may not be disclosed by the Agency to the Agency's authorized representative until each affected submitter has been furnished notice of the contemplated disclosure by the EPA program office and has been afforded a period found reasonable by that office (not less than five working days) to submit its comments. Pursuant to this Federal Register Notice, comments are limited to the change of contractor handling trade secret and confidential information submitted under 40 CFR part 350. The new mailing address will soon be announced in a Federal Register Notice and also will be posted on the Chemical Emergency Preparedness and Prevention Office Web site http://www.epa.gov/ceppo/.

DATES: Comments, identified by the docket control number SFUND-2003-0002, must be submitted on or before February 11, 2003.

ADDRESSES: Comments may be submitted by mail, electronically, or in person. Please follow the detailed instructions for each method as provided in Unit III of the Supplementary Information section of this notice.

FOR FURTHER INFORMATION CONTACT: For general information, contact the Emergency Planning and Community Right-to-Know Hotline at (800) 424-9346, TDD (800) 553-7672, http://www.epa.gov/epaoswer/hotline/. For technical information about this change in contractor and location for submitting trade secrets, contact: Dorothy McManus, Chemical Emergency Preparedness and Prevention Office (5104A), Environmental Protection Agency, 1200 Pennsylvania Avenue, NW., Washington DC 20460, Telephone: 202-564-8606; Fax: 202-564-8222; email: mcmanus.dorothy@epa.gov. For questions on the applicability of provisions contained in 40 CFR part 350, 40 CFR part 355, and 40 CFR part 370, contact: Sicy Jacob, Chemical Emergency Preparedness and Prevention Office (5104A), Environmental Protection Agency, 1200 Pennsylvania Avenue, NW., Washington DC 20460, Telephone: 202-564-8019; Fax: 202-564-8233; email: jacob.sicy@epa.gov.

SUPPLEMENTARY INFORMATION:

I. Does This Notice Apply to Me?

A. Affected Entities: Entities that will be affected by this section are those facilities subject to 40 CFR 355.30 Emergency Planning and 40 CFR part 370 Hazardous Chemical Reporting: Community Right-to-Know.

To determine whether your facility is affected by this action, you should carefully examine the applicability provisions at 40 CFR part 350, 40 CFR part 355, and 40 CFR part 370. If you have any questions regarding the applicability of this action to a particular entity, consult the person(s) listed in the FOR FURTHER INFORMATION CONTACT section.

II. How Can I Get Copies of This Document and Other Related Information?

A. Docket: EPA has established an official public docket for this action under Docket ID No. SFUND-2003-0002.

The public docket includes information considered by EPA in developing this action, including the documents listed below, which are physically located in the docket. In addition, interested parties should consult documents that are referenced in the documents that EPA has placed in the docket, regardless of whether these referenced documents are physically located in the docket. For assistance in located documents that are referenced in documents that EPA has placed in the docket, but that are not physically located in the docket, please consult the person(s) in the preceding FOR FURTHER INFORMATION CONTACT section. Although a part of the official docket, the public docket does not include Confidential Business Information (CBI) or other information whose disclosure is restricted by statute. The official public docket is the collection of materials that is available for public viewing at the EPA Docket Center, (EPA/DC) EPA West, Room B102, 1301 Constitution Avenue, NW., Washington DC. The EPA Docket Center Public Reading Room is open from 8:30 a.m. to 4:30 p.m., Monday through Friday, excluding legal holidays. The telephone number for the Reading Room is (202) 566-0274.

B. Electronic Access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in section II.A. of this document. Once in the system, select “search,” then key in the appropriate docket identification number.

III. How Can I Respond to This Notice?

A. How and to Whom Do I Submit Comments?

You may submit comments through the mail, in person, or electronically. Be sure to identify the appropriate docket control number (i.e., SFUND-2003-0002) in your correspondence.

1. By Mail. All comments should be sent in triplicate to : Chemical Emergency Preparedness and Prevention Office, Mail code 5104 A, Environmental Protection Agency, 1200 Pennsylvania Avenue, NW., Ariel Rios Building, Washington DC 20460.

2. In person or by courier. Comments may be delivered in person or by courier to: EPA Docket Center, (EPA/DC) EPA West, Room B102, 1301 Constitution Avenue, NW., Washington DC 20460. The Docket Center is open from 8 a.m. to 4 p.m., Monday through Friday, excluding legal holidays. The telephone number for the docket is (202) 566-1744.

3. Electronically. Submit your comments electronically by e-mail to: “superfund.docket@epa.gov”. Please note that you should not submit any information electronically that you consider to be CBI. Electronic comments must be submitted as an ASCII file avoiding the use of special characters and any form of encryption. Comments and data will also be accepted on standard computer disks in WordPerfect 6.1/8.0 or ASCII file format. All comments and data in electronic form must be identified by the docket control number SFUND-2003-0002. Electronic comments on this document may also be filed online at many Federal Depository Libraries.

B. How Should I Handle CBI Information That I Want To Submit to the Agency?

All comments which contain information claimed as CBI must be clearly marked as such. Three sanitized copies of any comments containing information claimed as CBI must also be submitted and will be placed in the public record for this document. Persons submitting information on any portion of which they believe is entitled to treatment as CBI by EPA must assert a business confidentiality claim in accordance with 40 CFR 2.203(b) for each such portion. This claim must be made at the time that the information is submitted to EPA. If a submitter does not assert a confidentiality claim at the time of submission, EPA will consider this as a waiver of any confidentiality claim and the information may be made available to the public by EPA without further notice to the submitter.

IV. What Is the General Background for This Action?

The Emergency Planning Notification (codified in 40 CFR part 355) and the Hazadous Chemical Reporting (codified in 40 CFR part 370) are mandated by the Emergency Planning and Community Right-to-Know Act of 1986 (EPCRA). EPCRA established a program designed to require state and local planning and preparedness for spills or releases of hazardous substances and to provide the public and local governments with information concerning potential chemical hazards in their communities. Under EPCRA section 303, (codified in 40 CFR part 355) a facility which has present an Extremely Hazardous Substance in excess of its threshold planning quantity (TPQ) must notify the State emergency response commission and local emergency planning committee as well as participate in local emergency planning activities. Under EPCRA sections 311 and 312, (codified in 40 CFR part 370), a facility is required to submit an inventory of hazardous chemicals present at their site at or above the specified threshold quantities.

Under section 322 of EPCRA (codified in 40 CFR part 350), facilities submitting reports under sections 303, 311 and 312 of EPCRA, may be eligible to claim Trade Secret for the specific chemical identity of the extremely hazardous substance or the hazardous chemical being reported. Pursuant to 40 CFR 350.23 (“Disclosure to authorized representatives”), information entitled to trade secret or confidential treatment may not be disclosed by the Agency to the Agency's authorized representative until each affected submitter has been furnished notice of the contemplated disclosure by the EPA program office and has been afforded a period found reasonable by that office (not less than five working days) to submit its comments. Such notice shall include a description of the information to be disclosed, the identity of the contractor, subcontractor, or grantee, the contract, subcontract, or grant number, if any, and the purposes to be served by the disclosure. This notice may be published in the Federal Register or may be sent to individual submitters.

The contract to manage the trade secret submissions under sections 303, 311, 312 and 313 was recompeted in 1998 and was awarded to the Computer Based Systems Incorporated, now known as Titan Systems, Inc. This contract ended on January 31, 2003. The new contract was transitioned to Computer Sciences Corporation (CSC) (GSA Contract GSOOT99ALD0203) at the end of December 2002. This new facility is located in New Carrollton, MD. All trade secret submissions for sections 303, 311, 312 and 313 pursuant to 40 CFR part 350 will be managed by CSC. (See 67 FR 65566, Oct. 25, 2002, for notice authorized representative to receive claims of trade secrecy under EPCRA section 313.)

In accordance with 40 CFR 350.23, EPA has determined that CSC and their subcontractors require access to trade secret and confidential information submitted under 40 CFR part 350 in order to receive, manage, process, and safely store such information. The contractor's and subcontractor's personnel will be required to sign a “Confidentiality Agreement” prior to being permitted access to trade secret and confidential information submitted under 40 CFR part 350. All contractor and subcontractor access to trade secrets and confidential information filed for sections 303, 311, 312 and 313 of EPCRA will take place at the contractor's facility in New Carrollton, MD. The contractor will have appropriate procedures and facilities in place to safeguard these trade secrets and confidential information submissions to which the contractor and subcontractors have access during the term of this contract.

Dated: February 3, 2003.
Deborah Y. Dietrich,
Director, Chemical Emergency Preparedness and Prevention Office.

[FR Doc. 03-3062 Filed 2-5-03; 8:45 am]

BILLING CODE 6560-50-P